DEPARTMENT OF HOMELAND SECURITY

Bureau of Customs and Border Protection

[CBP Decision 03-19]

Customs Accreditation of BSI Inspectorate America Corporation as a Commercial Laboratory

AGENCY: Customs and Border Protection, Department of Homeland Security.

ACTION: Notice of Accreditation of BSI Inspectorate America Corporation of Tallaboa-Penuelas, Puerto Rico, as a Commercial Laboratory.

SUMMARY: BSI Inspectorate America Corporation of Tallaboa-Penuelas, Puerto Rico has applied to Customs and Border Protection under Part 151.12 of the Customs Regulations for accreditation as a commercial laboratory to analyze petroleum products under Chapter 27 and Chapter 29 of the Harmonized Tariff Schedule of the United States (HTSUS). Customs has determined that this company meets all of the requirements for accreditation as a commercial laboratory. Specifically, BSI Inspectorate America Corporation has been granted accreditation to perform the following test methods at their Tallaboa-Penuelas, Puerto Rico site: (1) Distillation of Petroleum Products, ASTM D86; (2) Flash-Point by Pensky Martens Closed Cup Tester, ASTM D93; (3) Water in Petroleum Products and Bituminous Materials by Distillation, ASTM D95; (4) API Gravity by Hydrometer, ASTM D287; (5) Kinematic Viscosity of Transparent and Opaque Liquids, ASTM D445; (6) Sediment in Crude Oils and Fuel Oils by Extraction, ASTM D473; (7) Density, Relative Density (Specific Gravity), or API Gravity of Crude Petroleum and Liquid Petroleum Products by Hydrometer Method, ASTM D1298; (8) Water in Crude Oil by Distillation, ASTM D4006; (9) Percent by Weight of Sulfur by Energy-Dispersive X-Ray Fluorescence, ASTM D4294; and (10) Vapor Pressure of Petroleum Products, ASTM D5191. Therefore, in accordance with Part 151.12 of the Customs Regulations, BSI Inspectorate America Corporation of Tallaboa-Penuelas, Puerto Rico is hereby accredited to analyze the products named above.

Location: BSI Inspectorate America Corporation accredited site is located at: Bo. Encarnacion Road 127 Km 19.1, Tallaboa-Penuelas, Puerto Rico 00624.

Effective Date: July 15, 2003.

FOR FURTHER INFORMATION CONTACT: Arlene Faustermann, Science Officer, Laboratories and Scientific Services, Customs and Border Protection, 1300 Pennsylvania Avenue NW., Suite 1500 North, Washington, DC 20229, (202) 927-1060.

Dated: July 15, 2003.
Donald A. Cousins,
Acting Executive Director, Laboratories and Scientific Services.

[FR Doc. 03-21466 Filed 8-20-03; 8:45 am]

BILLING CODE 4820-02-P